ENVIRONMENTAL PROTECTION AGENCY

[FRL-7829-2]

Notice of Charter Renewal

The Charter for the Environmental Protection Agency's Gulf of Mexico Program Policy Review Board (GMPPRB) will be renewed for an additional two-year period, as a necessary committee which is in the public interest, in accordance with the provisions of the Federal Advisory Committee Act (FACA), 5 U.S.C. App. 2 § 9(c). The purpose of GMPPRB is to provide advice and recommendations to the Administrator of EPA on issues associated with plans to improve and protect the water quality and living resources of the Gulf of Mexico.

It is determined that GMPPRB is in the public interest in connection with the performance of duties imposed on the Agency by law.

Inquiries may be directed to Gloria Car, Designated Federal Officer, U.S. EPA, Gulf of Mexico Program Office (Mail Code: EPA/GMPO), Stennis Space Center, MS, 39529, Telephone (228) 688-2421, or car.gloria@epa.gov.

Dated: July 9, 2004.
Benjamin H. Grumbles,
Acting Assistant Administrator, Office of Water.

[FR Doc. 04-23451 Filed 10-19-04; 8:45 am]

BILLING CODE 6560-50-M